OFFICE OF PERSONNEL MANAGEMENT

Excepted Service

AGENCY: U.S. Office of Personnel Management (OPM).

ACTION: Notice.

SUMMARY: This notice identifies Schedule A, B, and C appointing authorities applicable to a single agency that were established or revoked from May 1, 2012, to May 31, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 in the Federal Register.

Schedule A

No changes to report for Schedule A authorities during May 2012.

Schedule B

No changes to report for Schedule B authorities during May 2012.

Schedule C

The following Schedule C appointing authorities were approved during May 2012.

Agency name | Organization name | Position title | Authorization number | Effective date
DEPARTMENT OF AGRICULTURE | Office of the Assistant Secretary for Administration | Confidential Assistant | DA120070 | 05/07/2012
| Foreign Agricultural Service | Senior Advisor | DA120071 | 05/07/2012
| Food and Nutrition Service | Advisor for Special Projects | DA120078 | 05/16/2012
| Office of the Assistant Secretary for Congressional Relations | Confidential Assistant | DA120080 | 05/24/2012
|  | Special Assistant | DA120081 | 05/24/2012
DEPARTMENT OF COMMERCE | Office of Deputy Assistant Secretary for Legislative and Intergovernmental Affairs | Associate Director for Oversight | DC120109 | 05/03/2012
| Minority Business Development Agency | Special Advisor | DC120116 | 05/18/2012
| Office of Executive Secretariat | Deputy Director, Executive Secretariat | DC120119 | 05/24/2012
DEPARTMENT OF DEFENSE | Office of the Secretary | Special Assistant | DD120067 | 05/02/2012
DEPARTMENT OF EDUCATION | Office of Elementary and Secondary Education | Deputy Assistant Secretary for Policy and Early Learning | DB120060 | 05/01/2012
| Office of the Under Secretary | Director of the White House Initiative on American Indian and Alaskan Native Education | DB120066 | 05/08/2012
| Office of Communications and Outreach | Special Assistant | DB120065 | 05/17/2012
DEPARTMENT OF ENERGY | Office of Assistant Secretary for Policy and International Affairs | Special Assistant | DE120087 | 05/09/2012
| Assistant Secretary for Energy Efficiency and Renewable Energy | Special Assistant | DE120091 | 05/21/2012
EXPORT-IMPORT BANK | Board of Directors | Executive Secretary | EB120002 | 05/08/2012
| Export-Import Bank | Director of Scheduling | EB120003 | 05/21/2012
DEPARTMENT OF HOMELAND SECURITY | Privacy Officer | Special Assistant | DM120120 | 05/08/2012
| Office of the Chief of Staff | Special Assistant | DM120126 | 05/22/2012
DEPARTMENT OF HOUSING AND URBAN DEVELOPMENT | Office of Congressional and Intergovernmental Relations | Congressional Relations Officer | DU120036 | 05/08/2012
| Office of the Secretary | Special Assistant | DU120034 | 05/09/2012
|  | Special Assistant | DU120037 | 05/22/2012
DEPARTMENT OF THE INTERIOR | Assistant Secretary—Fish and Wildlife and Parks | Special Assistant Fish and Wildlife and Parks | DI120045 | 05/03/2012
| Secretary's Immediate Office | Special Assistant | DI120031 | 05/04/2012
| Secretary's Immediate Office | Deputy Director of Scheduling | DI120046 | 05/16/2012
|  | Deputy Communications Director | DI120048 | 05/21/2012
| Assistant Secretary—Policy, Management and Budget | Special Assistant- Policy, Management and Budget | DI120050 | 05/22/2012
DEPARTMENT OF JUSTICE | Office of the Associate Attorney General | Attorney Advisor | DJ120075 | 05/11/2012
| Civil Division | Counsel and Chief of Staff | DJ120073 | 05/17/2012
DEPARTMENT OF LABOR | Office of the Secretary | Special Assistant | DL120051 | 05/03/2012
| Office of the Deputy Secretary | Senior Policy Advisor | DL120049 | 05/04/2012
OFFICE OF MANAGEMENT AND BUDGET | Office of the Director | Confidential Assistant | BO120026 | 05/07/2012
SMALL BUSINESS ADMINISTRATION | Office of Government Contracting and Business Development | Special Advisor for Government Contracting and Business Development | SB120022 | 05/07/2012
DEPARTMENT OF STATE | Office of the Under Secretary for Arms Control and International Security Affairs | Staff Assistant | DS120073 | 05/01/2012
| Bureau of Population, Refugees and Migration | Staff Assistant | DS120075 | 05/17/2012
| Bureau of Public Affairs | Public Affairs Officer | DS120076 | 05/18/2012

The following Schedule C appointing authorities were revoked during May 2012.

Agency name | Organization name | Position title | Authorization number | Effective date
DEPARTMENT OF AGRICULTURE | Food and Nutrition Service | Special Assistant | DA090148 | 05/05/2012
| Office of the Secretary | Deputy White House Liaison | DA110069 | 05/05/2012
DEPARTMENT OF COMMERCE | National Oceanic and Atmospheric Administration | Director, Strategic Initiatives and Partnerships | DC110052 | 05/12/2012
DEPARTMENT OF EDUCATION | Office of the Secretary | Senior Advisor on Early Learning | DB090149 | 05/05/2012

Authority: 5 U.S.C. 3301 and 3302; E.O. 10577, 3 CFR 1954-1958 Comp., p. 218.

U.S. Office of Personnel Management.
John Berry,
Director.

[FR Doc. 2012-17758 Filed 7-19-12; 8:45 am]

BILLING CODE 6325-39-P